DEPARTMENT OF THE TREASURY

Alcohol and Tobacco Tax and Trade Bureau

27 CFR Part 9

[Docket No. TTB-2015-0007; Notice No. 151]

RIN 1513-AC17

Proposed Establishment of the Lamorinda Viticultural Area

AGENCY: Alcohol and Tobacco Tax and Trade Bureau, Treasury.

ACTION: Notice of proposed rulemaking.

SUMMARY: The Alcohol and Tobacco Tax and Trade Bureau (TTB) proposes to establish the approximately 29,369-acre “Lamorinda” viticultural area in Contra Costa County, California. The proposed viticultural area lies entirely within the larger San Francisco Bay viticultural area and the multicounty Central Coast viticultural area. TTB designates viticultural areas to allow vintners to better describe the origin of their wines and to allow consumers to better identify wines they may purchase. TTB invites comments on this proposed addition to its regulations.

DATES: Comments must be received by June 15, 2015.

ADDRESSES: Please send your comments on this notice to one of the following addresses:

• Internet: http://www.regulations.gov (via the online comment form for this notice as posted within Docket No. TTB-2015-0007 at Regulations.gov, the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200-E, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G St. NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon; and

• A detailed narrative description of the proposed AVA boundary based on USGS map markings.

Lamorinda Petition

TTB received a petition from Patrick L. Shabram, on behalf of the Lamorinda Wine Growers Association, proposing the establishment of the “Lamorinda” AVA. The proposed Lamorinda AVA is located in Contra Costa County, California, and contains the cities of Lafayette, Moraga, and Orinda. The proposed viticultural area lies in the northeast portion of the San Francisco Bay AVA (27 CFR 9.157) and also within the larger, multicounty Central Coast AVA (27 CFR 9.75).

The proposed AVA contains approximately 29,369 acres and has 46 commercially producing vineyards that cover approximately 139 acres. The petition states that the individual vineyards are small, each covering less than 5 acres, due to the hilly terrain and the largely suburban nature of the region. However, three much larger commercial vineyards covering a total of 130 acres are either in the early development or public review stages. There also are six bonded wineries currently within the proposed AVA. According to the petition, the distinguishing features of the proposed Lamorinda AVA include its topography, soils, geology, and climate. Unless otherwise noted, all information and data pertaining to the proposed viticultural area contained in this document are from the petition for the proposed Lamorinda AVA and its supporting exhibits, which may be viewed in Docket No. TTB-2015-0007 at Regulations.gov.

Name Evidence

The proposed Lamorinda AVA takes its name from a commonly used portmanteau derived from the names of the three cities within the region: Lafayette (“La”), Moraga (“mor”), and Orinda (“inda”). As evidence of the use of the name “Lamorinda” in this region, the petition included a Rand McNally map of the region titled “Lamorinda.” The petition also included a listing of publications, sports clubs, businesses, and organizations within the proposed AVA that use the name “Lamorinda.” For example, a biweekly newspaper entitled Lamorinda Weekly and a Web site known as Lamorinda Web both provide news and information about the community. The Lamorinda Soccer Club, the Lamorinda Baseball Club, and the Lamorinda Rugby Football Club are all youth sports organizations in the region. A local transportation service known as the Lamorinda Spirit Van provides transportation for the elderly and individuals with disabilities within the region of the proposed AVA. Other businesses and organizations cited in the petition include Lamorinda Moms, Lamorinda Democratic Club, Lamorinda Sunrise Rotary, Lamorinda Music, Lamorinda Pediatrics, Lamorinda Theatre Academy, and Lamorinda Solar.

Boundary Evidence

The proposed Lamorinda AVA is comprised of hilly-to-mountainous terrain and occupies an area described in the petition as suburban. Elevations range from approximately 220 feet along Las Trampas Creek, which runs through the city of Lafayette in the eastern portion of the proposed AVA, to a 2,024-foot peak on Rocky Ridge in the southeastern corner of the proposed AVA.

The eastern boundary of the proposed Lamorinda AVA follows a series of straight lines drawn along the ridgeline that separates the city of Walnut Creek, which lies just outside the boundary, from the city of Lafayette. The proposed eastern boundary also separates the hilly terrain of the proposed AVA from the flatter, lower elevations of the Ygnacio Valley and the San Ramon Valley. The proposed southern boundary follows a series of straight lines drawn between peaks to separate the proposed AVA from the more rugged, mountainous terrain to the south. The proposed western boundary follows a series of lines drawn between mountain peaks to follow the Gudde Ridge, which separates the proposed AVA from the Berkeley Hills and Oakland Highlands, both of which lie west of the proposed AVA. West of the Berkeley Hills and Oakland Highlands, the land slopes sharply towards the flatter, lower terrain surrounding San Leandro Bay and San Francisco Bay. The proposed northern boundary follows a portion of the corporate boundary line of the city of Orinda and a series of straight lines drawn between unnamed peaks whose elevations are marked on the USGS maps. The proposed boundary separates the proposed AVA from the lower, slightly cooler region surrounding the Briones Reservoir, the San Pablo Reservoir, and Suisun Bay, which all lie just north of the proposed AVA.

Distinguishing Features

The distinguishing features of the proposed Lamorinda AVA include its topography, soils, geology, and climate.

Topography

The proposed Lamorinda AVA is characterized by hilly-to-mountainous terrain, with a number of moderate-to-steep slopes throughout the region. Valleys within the proposed AVA tend to be very narrow. The high ridgelines that form the northern and western boundaries of the proposed AVA limit the amount of cool marine air that enters the region, giving the proposed AVA a warmer climate than the regions to the north and west.

According to the petition, the hilly terrain of the proposed AVA affects viticulture. All vineyards within the proposed AVA are located on hillsides because the valley floors are too narrow for commercial viticulture. Because of the steepness of the hillsides, machinery cannot be used safely in the vineyards. Therefore, all vineyard work, including harvesting, must be done by hand. The inability to use machinery keeps the vineyards small. The steep hillsides also promote airflow within the vineyards, which dries and cools the vines and reduces the risk of mildew. Finally, the hilly terrain is suitable for growing both cool- and warm-climate varietals, sometimes within the same vineyard. As an example of cool- and warm-climate grapes growing in the same vineyard, the petition cites the Captain Vineyards in Moraga, which grows both Pinot Noir and Cabernet Sauvignon. The steepness of the vineyard means vines planted on the lower portions of the hillsides receive less sunlight, making the temperature cool enough to grow cool-climate grapes such as Pinot Noir. By contrast, the hilltops receive more sunlight, which raises the temperature enough to grow warm-climate grapes such as Cabernet Sauvignon.

The hilly-to-mountainous topography of the proposed Lamorinda AVA contrasts with the terrain of the surrounding regions. To the north, the terrain becomes flatter as the land slopes down towards Suisun Bay. To the immediate east of the proposed AVA are the Ygnacio Valley and San Ramon Valley, which both have flatter terrain than the proposed AVA. To the immediate south of the proposed AVA, the topography is more mountainous and rugged than within the proposed AVA. To the west, the Berkeley Hills and Oakland Hills give way to the flat coastal terrain along San Leandro Bay and San Francisco Bay.

In addition to having a distinctive topography, the proposed Lamorinda AVA also has a suburban land use pattern that is distinct from many other AVAs. According to the petition, 79.5 percent of the proposed AVA is located within the city limits of Lafayette, Moraga, and Orinda. However, the petition also notes that the proposed AVA has semi-rural characteristics, with homes on large lots and a low population density. As a result, property owners often have room to plant vineyards that are large enough to allow for commercial viticulture. The petition states that the areas to the immediate east and west of the proposed AVA are more urban than the proposed AVA, with higher population densities and land that is subdivided into much smaller lots than the land within the proposed Lamorinda AVA. Therefore, commercial viticulture is not possible within those areas.

Soils

According to a geological report included with the petition as Exhibit B, the soils of the proposed Lamorinda AVA are classified as mollisols and vertisols. Mollisols are soils that are high in organic material and calcium and are common in areas where grass is the predominant native vegetation. Vertisols, the predominant soils in the proposed AVA, have high levels of clay and are known to shrink and form deep cracks during dry periods. The high clay content in the soils of the proposed AVA is attributable to the weathering of the clay-rich Orinda Formation that underlies the region.

The most prevalent soil series within the proposed AVA are Los Osos clay loam, Lodo clay loam, Alo clay, Sehorn clay, and Altamont-Fontana Complex. Clay-rich soils such as these typically have high water-holding capacities, which can reduce the sugar content of the grapes and increase the risk of diseases and rot in vineyards. However, the soils of the proposed Lamorinda AVA have lower than expected water-holding capacities because the thinness of the soils, the steepness of the terrain, and the presence of sand in the soils all allow for the rapid runoff of excess water. The thinness of the soils also has the added effect of preventing the vines from growing too vigorously.

The soils of the proposed Lamorinda AVA are distinctive from the soils in the surrounding regions. The soils to the west, south, and southeast of the proposed AVA are formed from a combination of sedimentary and volcanic materials. To the north of the proposed Lamorinda AVA, the soils along the Suisun Bay are fine-grained bay mud, which is unsuitable for viticulture due to its high water-holding capacity. To the east in the Ygnacio Valley, the soils are deeper, coarser alluvial deposits.

Geology

The dominant geological formation of the proposed AVA is the Orinda Formation. Other major geological formations within the proposed AVA include the Briones Formation and the Mulholland Formation. All three of these underlying geological formations contain large amounts of sedimentary rocks, including sandstone. Other sedimentary rocks present within these formations include shale, which is common in the Mulholland Formation, and claystone casts, which are present in large numbers in the Orinda Formation.

The proposed Lamorinda AVA is bordered by two major faults. The Hayward Fault lies to the west of the proposed AVA and passes through the cities of Oakland and Berkeley. The Calaveras Fault runs east of the proposed AVA and through the city of Walnut Creek. The two faults angle toward each other and merge south of the proposed AVA. Millions of years ago, seismic activity in the Hayward Fault led to the uplifting of the Berkeley Hills and the formation of a restricted marine basin in the region of the proposed AVA. A restricted marine basin is a body of saltwater or brackish water that has more water flowing into the basin than out of it, due to the surrounding topography. Fine materials weathering from the Berkeley Hills, to the west, and the foothills of Mount Diablo, to the southeast, settled in this basin and led to the creation of the Orinda Formation. Eventually, the basin was completely restricted and became a shallow lake. The deposition of weathered material into this shallow lake created the Mulholland Formation. Over time, seismic activity along the Hayward Fault and the Calaveras Fault uplifted the bottom of the shallow lake, draining the lake and forming the hilly terrain that is characteristic of the proposed Lamorinda AVA.

To the east of the proposed Lamorinda AVA, the dominant geological formation is the Tassajara-Green Valley Formation, which consists of mudstone, sandstone, and small amounts of volcanic material. To the south of the proposed AVA, the Orinda, Briones, and Mulholland Formations continue to dominate, eventually giving way to the Forearc Assemblage. To the west, the dominant geologic formations are the Forearc Assemblage, the Franciscan Formation, and the Great Valley Ophiolite, along with the Moraga Formation and Siesta Formation. To the north, the Briones and Monterey Formations dominate and eventually give way to Forearc Assemblage.

The geology of the proposed Lamorinda AVA affects viticulture indirectly through its role in forming the terrain and soils of the region. Erosion of the Orinda Formation led to the formation of the proposed AVA's clay-rich soils with high water-holding capacities. The uplifting of the floor of the ancient lake created the steep, hilly terrain of the proposed AVA. The steepness of the hills provides good drainage and limits the depth of the soils, both of which help mitigate the high water-holding capacity of the soils in the proposed AVA. Finally, the hills of the proposed AVA allow for good airflow in vineyards and provide a variety of slope aspects that are suitable for growing a wide variety of grapes.

Climate

Ridgelines shelter the proposed Lamorinda AVA from much of the diurnal fog and cool marine air moving inland from San Francisco Bay, San Pablo Bay, and Suisun Bay. While some marine air enters the proposed AVA through narrow creek valleys and wind gaps, the region is less exposed to the cool air as the regions along the bays. Additionally, the small amount of daytime fog that enters the proposed AVA is thin and burns off quickly, unlike the heavier, longer-lasting fog of the coastal areas. As a result, the proposed AVA receives more sunlight and has generally warmer temperatures than the surrounding regions, except for the regions farther inland, which receive very little, if any, marine air and fog. The proposed AVA does receive some nocturnal fog, although the petition states that nocturnal fog has a different effect on temperatures than diurnal fog. Diurnal fog usually lowers daytime temperatures by blocking the sunlight. By contrast, nocturnal fog has a modest warming effect on nighttime temperatures. When the heat that has been absorbed by soil during the day is released back into the air at night, nocturnal fog acts as a blanket, trapping the heat closer to the ground and preventing it from dissipating.

The petition included annual growing degree day (GDD) ¹ data from eight weather stations within and around the proposed Lamorinda AVA. The data from all eight stations is contained in Exhibit C of the petition. Of the four stations that had complete data from 2007 to 2011, the data showed that the proposed AVA had the highest GDD accumulations over that period, which substantiates the petition's claim that the proposed AVA is sheltered from cooling marine air and diurnal fog more so than surrounding areas. The following table from the petition summarizes the GDD data from the four stations that had complete data from 2007 to 2011.

¹ In the Winkler climate classification system, annual heat accumulation during the growing season, measured in annual GDDs, defines climatic regions. One GDD accumulates for each degree Fahrenheit that a day's mean temperature is above 50 degrees, the minimum temperature required for grapevine growth. See Albert J. Winkler, General Viticulture (Berkeley: University of California Press, 1974), pages 61-64.

Annual Growing Degree Data From 2007-2011
Year | Lafayette Reservoir ² (within proposed AVA) | Oakland Foothills ³ (South-southwest of proposed AVA) | Concord ⁴ (Northwest of proposed AVA) | Pleasanton ⁵ (Southeast of proposed AVA)
2007 | 2,928 | 2,187 | 3,024 | 2,863
2008 | 3,325 | 2,479 | 3,209 | 3,068
2009 | 3,215 | 2,367 | 3,068 | 3,090
2010 | 2,816 | 2,103 | 2,664 | 2,599
2011 | 2,995 | 2,173 | 2,778 | 2,842

The data from the remaining four weather stations ⁶ outside the proposed AVA was incomplete for the years between 2007 and 2011. However, the data that was provided also shows that the proposed AVA had higher GDD accumulations than three of those stations. The fourth station, located in Brentwood, California, which is to the east of the proposed AVA, had higher GDD accumulations than the proposed AVA. This further substantiates the petition's claim that areas outside of the proposed AVA, such as Brentwood and other areas located much farther inland, differ in that they receive less marine air and fog than the proposed AVA.

² Data from the East Bay Municipal Utility District (EBMUD) station located at the reservoir.

³ Data from the California Irrigation Management Information System (CIMIS) station #147 (“Oakland Foothills”) on the campus of Mills College in Oakland, CA.

⁴ Data from the CIMIS station #170 (“Concord”) on the Diablo Creek Golf Course in Concord, CA.

⁵ Data from the CIMIS station #191 (“Pleasanton”) located in Alameda County, CA.

⁶ EBMUD station at San Pablo Reservoir (north-northwest of proposed AVA), EBMUD station at Briones Reservoir (north of proposed AVA), EBMUD station at Upper San Leandro Reservoir (south of proposed AVA), and CMIS station #47 (“Brentwood”) in Brentwood (east of proposed AVA).

The warm temperatures, high GDD accumulations, and lack of diurnal fog in the proposed Lamorinda AVA have an effect on viticulture. Slower-maturing varieties of grapes have ample time to ripen because the warm temperatures and plentiful sunlight allow for long days of photosynthesis. By contrast, slower-maturing varieties of grapes are less likely to ripen successfully in the cooler, foggier regions to the north, south, and west of the proposed AVA because lower temperatures and lower levels of sunlight interrupt photosynthesis.

Summary of Distinguishing Features

In summary, the evidence provided in the petition indicates that the geographic features of the proposed Lamorinda AVA are distinguishable from those of the surrounding regions. The terrain of the proposed AVA is moderate-to-steep hills, which contrasts with the steeper, more rugged terrain to the south and west and the lower, flatter plains to the north and east. The soils of the proposed AVA are high in clay, whereas volcanic materials are present in the soils to the south and west and alluvial deposits are prominent to the north and east. The dominant geological formation of the proposed Lamorinda AVA is the Orinda Formation, whereas the Tassajara-Green Valley Formation is prominent to the east and the Forearc Assemblage dominates the regions to the north, west, and south. Finally, the surrounding regions are more exposed to marine air and fog and have lower GDD accumulations than the proposed AVA.

Comparison of the Proposed Lamorinda Viticultural Area to the Existing San Francisco Bay and Central Coast AVAs

San Francisco Bay AVA

The San Francisco Bay AVA was established by T.D. ATF-407, which was published in the Federal Register on January 20, 1999 (64 FR 3024). According to T.D. ATF-407, the San Francisco Bay AVA is distinguished by a climate that is heavily influenced by marine air and fog from San Francisco Bay and the Pacific Ocean. The presence of stream valleys and wind gaps in the region allows limited amounts of marine air and fog to travel beyond the coastal mountains and into the interior regions of the AVA. However, as one travels easterly from the coastline, the climate generally becomes drier and warmer as the marine influence diminishes.

The proposed Lamorinda AVA is located in the eastern portion of the San Francisco Bay AVA and shares some broad characteristics of the larger San Francisco Bay AVA. While the proposed Lamorinda AVA receives some marine air that enters the region through stream valleys and wind gaps, much of the cooling air is blocked by the higher elevations that surround the proposed AVA to the north, west, and south. The proposed AVA also experiences some light nocturnal marine fog, but the heavy diurnal fog that characterizes the more coastal portions of the San Francisco Bay AVA seldom occurs.

Central Coast AVA

The large, 1 million-acre Central Coast AVA was established by T.D. ATF-216, which was published in the Federal Register on October 24, 1985 (50 FR 43128). The Central Coast viticultural area encompasses the California counties of Alameda, Contra Costa, Monterey, San Benito, San Francisco, San Luis Obispo, San Mateo, Santa Barbara, Santa Clara, and Santa Cruz, and it contains 28 established AVAs. T.D. ATF-216 describes the Central Coast viticultural area as extending from Santa Barbara to the San Francisco Bay area, and east to the California Coastal Ranges. The only distinguishing feature of the California Coast AVA addressed in T.D. ATF-216 is that all of the included counties experience marine climate influence due to their proximity to the Pacific Ocean.

The proposed Lamorinda AVA is located within the Central Coast AVA and, like the larger AVA, experiences mild marine breezes and nocturnal marine fog. However, due to its much smaller size, the proposed AVA has greater uniformity in geographical features such as topography, temperature, and soils, than the larger, multicounty Central Coast AVA.

TTB Determination

TTB concludes that the petition to establish the approximately 29,369-acre Lamorinda AVA merits consideration and public comment, as invited in this notice of proposed rulemaking.

Boundary Description

See the narrative description of the boundary of the petitioned-for viticultural area in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name or other viticulturally significant term that was used as a brand name on a label approved before July 7, 1986. See § 4.39(i)(2) of the TTB regulations (27 CFR 4.39(i)(2)) for details.

If TTB establishes this proposed AVA, its name, “Lamorinda,” will be recognized as a name of viticultural significance under § 4.39(i)(3) of the TTB regulations (27 CFR 4.39(i)(3)). The text of the proposed regulation clarifies this point. Consequently, wine bottlers using the name “Lamorinda” in a brand name, including a trademark, or in another label reference as to the origin of the wine, would have to ensure that the product is eligible to use the AVA as an appellation of origin if this proposed rule is adopted as a final rule.

The approval of the proposed Lamorinda AVA would not affect any existing viticultural area, and any bottlers using “San Francisco Bay” or “Central Coast” as an appellation of origin or in a brand name for wines made from grapes grown within the San Francisco Bay or Central Coast AVAs would not be affected by the establishment of this new AVA. The establishment of the proposed Lamorinda AVA would allow vintners to use “Lamorinda,” “San Francisco Bay,” and “Central Coast” as appellations of origin for wines made from grapes grown within the proposed Lamorinda AVA, if the wines meet the eligibility requirements for the appellation.

Public Participation

Comments Invited

TTB invites comments from interested members of the public on whether it should establish the proposed AVA. TTB is also interested in receiving comments on the sufficiency and accuracy of the name, boundary, soils, climate, and other required information submitted in support of the petition. In addition, given the proposed Lamorinda AVA's location within the existing San Francisco Bay and Central Coast AVAs, TTB is interested in comments on whether the evidence submitted in the petition regarding the distinguishing features of the proposed AVA sufficiently differentiates it from the existing San Francisco Bay and Central Coast AVAs. TTB also is interested in comments whether the geographic features of the proposed AVA are so distinguishable from the surrounding San Francisco Bay and Central Coast AVAs that the proposed Lamorinda AVA should no longer be part of those AVAs. Please provide any available specific information in support of your comments.

Because of the potential impact of the establishment of the proposed Lamorinda AVA on wine labels that include the term “Lamorinda” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB also is interested in receiving suggestions for ways to avoid conflicts, for example, by adopting a modified or different name for the AVA.

Submitting Comments

You may submit comments on this notice by using one of the following three methods:

• Federal e-Rulemaking Portal: You may send comments via the online comment form posted with this notice within Docket No. TTB-2015-0007 on Regulations.gov, the Federal e-rulemaking portal, at http://www.regulations.gov. A direct link to that docket is available under Notice No. 151 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this notice. Your comments must reference Notice No. 151 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2015-0007 on the Federal e-rulemaking portal, Regulations.gov, at http://www.regulations.gov. A direct link to that docket is available on the TTB Web site at http://www.ttb.gov/wine/wine_rulemaking.shtml under Notice No. 151. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You also may view copies of this notice, all related petitions, maps and other supporting materials, and any electronic or mailed comments that TTB receives about this proposal by appointment at the TTB Information Resource Center, 1310 G Street NW., Washington, DC 20005. You may also obtain copies at 20 cents per 8.5- x 11-inch page. Please note that TTB is unable to provide copies of USGS maps or other similarly-sized documents that may be included as part of the AVA petition. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.___to read as follows:

§ 9. Lamorinda.

(a) Name. The name of the viticultural area described in this section is “Lamorinda”. For purposes of part 4 of this chapter, “Lamorinda” is a term of viticultural significance.

(b) Approved maps. The four United States Geological Survey (USGS) 1:24,000 scale topographic maps used to determine the boundary of the Lamorinda viticultural area are titled:

(1) Walnut Creek, CA, 1995;

(2) Las Trampas Ridge, CA, 1995;

(3) Oakland East, CA, 1997; and

(4) Briones Valley, CA, 1995.

(c) Boundary. The Lamorinda viticultural area is located in Contra Costa County, California. The boundary of the Lamorinda viticultural area is as described below:

(1) The beginning point is on Walnut Creek map at the water tank (known locally as the Withers Reservoir) at the end of an unnamed light-duty road known locally as Kim Road, in the Cañada del Hambre Y Las Bolsas Land Grant.

(2) From the beginning point, proceed south-southeast in a straight line approximately 0.8 mile to the 833-foot peak marked “Hump 2;” then

(3) Proceed southeast in a straight line approximately 1.7 miles to the marked 781-foot peak south of the shared Lafayette-Walnut Creek corporate boundary line and north of an unnamed light-duty road known locally as Peaceful Lane; then

(4) Proceed southeast in a straight line approximately 0.3 mile to the marked 610-foot peak southwest of an unnamed light-duty road known locally as Secluded Place; then

(5) Proceed south-southwest in a straight line approximately 1.7 miles to an unidentified benchmark at the end of an unnamed unimproved road known locally as Diablo Oaks Way in section 33, T1N/R2W; then

(6) Proceed southeast in a straight line approximately 0.5 mile, crossing onto the Las Trampas map, and continuing another 0.9 mile to the substation at the southeast corner of section 4, T1S/R2W; then

(7) Proceed southeast in a straight line approximately 2.3 miles to the 1,827-foot summit of Las Trampas Peak, section 22, T1S/R2W; then

(8) Proceed south-southeast in a straight line approximately 2.1 miles to the 2,024-foot benchmark marked “Rock 2” in section 26, T1S/R2W; then

(9) Proceed west-southwest in a straight line approximately 2.7 miles to the marked 1,057-foot peak in section 29, T1S/R2W; then

(10) Proceed west-southwest in a straight line approximately 2 miles to the intersection of the 1,000-foot elevation line with the Contra Costa-Alameda County line in section 31, T1S/R2W; then

(11) Proceed northwest in a straight line approximately 0.4 mile, crossing onto the Oakland East map, then continuing another 0.1 mile to the 1,121-foot peak in section 30, T1S/R2W; then

(12) Proceed northwest in a straight line approximately 3.6 miles to the 1,301-foot peak in section 15, T1S/R3W; then

(13) Proceed northwest in a straight line approximately 1.6 miles to the 1,634-foot peak in section 9, T1S/R3W; then

(14) Proceed northwest in a straight line approximately 2.2 miles to the communication tower on the Contra Costa-Alameda County line in section 5, T1S/R3W; then

(15) Proceed north in a straight line approximately 0.1 mile, crossing onto the Briones Valley map, then continuing another 0.6 mile to the 1,905-foot summit of Vollmer Peak in the El Sobrante Land Grant; then

(16) Proceed north-northeast in a straight line approximately 3 miles, crossing over to the 1,027-foot peak in the Boca de la Cañada del Pinole Land Grant, to the Orinda corporate boundary line; then

(17) Proceed generally east along the Orinda corporate boundary line approximately 3.3 miles to the water tank at the 1,142-foot elevation in the Boca de la Cañada del Pinole Land Grant; then

(18) Proceed east-northeast in a straight line approximately 1.2 miles to the 1,357-foot benchmark marked “Russell” in the Boca de la Cañada del Pinole Land Grant; then

(19) Proceed northwest in a straight line approximately 0.8 mile to the 1,405-foot peak in the Boca de la Cañada del Pinole Land Grant; then

(20) Proceed east-northeast in a straight line approximately 0.5 mile, crossing onto the Walnut Creek map, then continuing another 1.1 miles to the beginning point.

Signed: April 7, 2015.
John J. Manfreda,
Administrator.

[FR Doc. 2015-08495 Filed 4-13-15; 8:45 am]

BILLING CODE 4810-31-P